FEDERAL COMMUNICATIONS COMMISSION

Deletion of Items From Sunshine Act Meeting

January 25, 2018.

The following item has been deleted from the list of items scheduled for consideration at the Tuesday, January 30, 2018, Open Meeting and previously listed in the Commission's Notice of January 23, 2018.

7 | Media | Title: Modernization of Media Regulation Initiative (MB Docket No. 17-105); Amendment of Parts 27, 54, 73, 74, and 76 of the Commission's Rules to Delete Rules Made Obsolete by the Digital Television Transition.
|  | Summary: The Commission will consider an Order deleting rules made obsolete by the Digital TV transition.

Federal Communications Commission.
Marlene H. Dortch,
Secretary.

[FR Doc. 2018-02030 Filed 1-29-18; 4:15 pm]

BILLING CODE 6712-01-P